SUSQUEHANNA RIVER BASIN COMMISSION

Actions Taken at March 10, 2016, Meeting

AGENCY: Susquehanna River Basin Commission.

ACTION: Notice.

SUMMARY: As part of its regular business meeting held on March 10, 2016, in Aberdeen, Maryland, the Commission took the following actions: (1) Approved or tabled the applications of certain water resources projects; (2) accepted settlements in lieu of penalties from Aqua Pennsylvania, Inc., Cabot Oil & Gas Corporation, and King Valley Golf Course; and (3) took additional actions, as set forth in the Supplementary Information below.

DATES: March 10, 2016.

ADDRESSES: Susquehanna River Basin Commission, 4423 N. Front Street, Harrisburg, PA 17110-1788.

FOR FURTHER INFORMATION CONTACT: Jason E. Oyler, General Counsel, telephone: (717) 238-0423, ext. 1312; fax: (717) 238-2436; email: joyler@srbc.net. Regular mail inquiries may be sent to the above address. See also Commission Web site at www.srbc.net.

SUPPLEMENTARY INFORMATION: In addition to the actions taken on projects identified in the summary above and the listings below, the following items were also presented or acted upon at the business meeting: (1) Adoption of a budget for the 2017 fiscal year; (2) a recommendation for engaging an independent auditor; (3) approval/ratification of a grant amendment and an agreement; and (4) a report on delegated settlements with the following project sponsors, pursuant to SRBC Resolution 2014-15: Dauphin County General Authority—Highlands Golf Course, in the amount of $2,000; Talisman Energy USA Inc., in the amount of $1,000; and Mountain Energy Services, Inc., in the amount of $1,000.

Compliance Matters

The Commission approved settlements in lieu of civil penalties for the following projects:

1. Aqua Pennsylvania, Inc. (Beech Mountain System), Butler Township, Luzerne County, PA—$9,000.

2. Cabot Oil & Gas Corporation (GillinghamR P1 Pad (ABR-201305017; Forest Lake Township) and DeluciaR P1 Pad (ABR-201211002; Harford Township)), Susquehanna County, PA—$11,000.

3. King Valley Golf Course, Kimmel Township, Bedford County, PA—$10,000.

Project Applications Approved

The Commission approved the following project applications:

1. Project Sponsor and Facility: Anadarko E&P Onshore LLC (Lycoming Creek), Lewis Township, Lycoming County, PA. Renewal of surface water withdrawal of up to 1.340 mgd (peak day) (Docket No. 20120301).

2. Project Sponsor: Aqua Pennsylvania, Inc. Project Facility: Midway Manor System, Kingston Township, Luzerne County, PA. Groundwater withdrawal of up to 0.115 mgd (30-day average) from Dug Road Well.

3. Project Sponsor: Aqua Pennsylvania, Inc. Project Facility: Midway Manor System, Kingston Township, Luzerne County, PA. Groundwater withdrawal of up to 0.035 mgd (30-day average) from Hilltop Well.

4. Project Sponsor: Aqua Pennsylvania, Inc. Project Facility: Midway Manor System, Kingston Township, Luzerne County, PA. Groundwater withdrawal of up to 0.158 mgd (30-day average) from Midway Well 1.

5. Project Sponsor: Aqua Pennsylvania, Inc. Project Facility: Midway Manor System, Kingston Township, Luzerne County, PA. Groundwater withdrawal of up to 0.110 mgd (30-day average) from Midway Well 2.

6. Project Sponsor and Facility: East Berlin Area Joint Authority, Reading Township, Adams County, PA. Groundwater withdrawal of up to 0.044 mgd (30-day average) from Well 1.

7. Project Sponsor and Facility: East Berlin Area Joint Authority, Reading Township, Adams County, PA. Groundwater withdrawal of up to 0.065 mgd (30-day average) from Well 2.

8. Project Sponsor and Facility: East Berlin Area Joint Authority, East Berlin Borough, Adams County, PA. Groundwater withdrawal of up to 0.058 mgd (30-day average) from Well 4.

9. Project Sponsor and Facility: East Berlin Area Joint Authority, East Berlin Borough, Adams County, PA. Renewal with modification to increase groundwater withdrawal limit, for a total of up to 0.051 mgd (30-day average) from Well 5 (Docket No. 19860601).

10. Project Sponsor and Facility: East Cocalico Township Authority, East Cocalico Township, Lancaster County, PA. Groundwater withdrawal of up to 0.059 mgd (30-day average) from Well 3A.

11. Project Sponsor and Facility: East Cocalico Township Authority, East Cocalico Township, Lancaster County, PA. Groundwater withdrawal of up to 0.023 mgd (30-day average) from Well 4.

12. Project Sponsor and Facility: East Cocalico Township Authority, East Cocalico Township, Lancaster County, PA. Groundwater withdrawal of up to 0.056 mgd (30-day average) from Well 5.

13. Project Sponsor and Facility: East Cocalico Township Authority, East Cocalico Township, Lancaster County, PA. Groundwater withdrawal of up to 0.022 mgd (30-day average) from Well 6.

14. Project Sponsor and Facility: East Cocalico Township Authority, East Cocalico Township, Lancaster County, PA. Groundwater withdrawal of up to 0.046 mgd (30-day average) from Well 7.

15. Project Sponsor and Facility: EQT Production Company (Wilson Creek), Duncan Township, Tioga County, PA. Renewal of surface water withdrawal of up to 0.720 mgd (peak day) (Docket No. 20120307).

16. Project Sponsor and Facility: Furman Foods, Inc., Point Township, Northumberland County, PA. Renewal of groundwater withdrawal to include a phased implementation of seasonal groundwater withdrawal limits for Well 1 (Docket No. 19850901).

17. Project Sponsor and Facility: Furman Foods, Inc., Point Township, Northumberland County, PA. Renewal of groundwater withdrawal to include a phased implementation of seasonal groundwater withdrawal limits for Well 4 (Docket No. 19850901).

18. Project Sponsor and Facility: Furman Foods, Inc., Point Township, Northumberland County, PA. Renewal of groundwater withdrawal to include a phased implementation of seasonal groundwater withdrawal limits for Well 7 (Docket No. 19850901).

19. Project Sponsor and Facility: Mount Joy Borough Authority, Mount Joy Borough, Lancaster County, PA. Modification to increase withdrawal limit from Well 2 by 0.105 mgd (30-day average), for a total Well 2 withdrawal limit of 1.270 mgd (30-day average), and to increase the combined withdrawal limit by an additional 0.199 mgd (30-day average), for a total combined withdrawal limit of 1.799 mgd (30-day average) from Wells 1 and 2 (Docket No. 20110617).

20. Project Sponsor and Facility: Muncy Borough Municipal Authority, Muncy Creek Township, Lycoming County, PA. Groundwater withdrawal of up to 0.324 mgd (30-day average) from Well 5.

21. Project Sponsor and Facility: Muncy Borough Municipal Authority, Muncy Creek Township, Lycoming County, PA. Groundwater withdrawal of up to 0.352 mgd (30-day average) from Well 6.

22. Project Sponsor and Facility: Muncy Borough Municipal Authority, Muncy Creek Township, Lycoming County, PA. Groundwater withdrawal of up to 0.126 mgd (30-day average) from Well 7.

23. Project Sponsor and Facility: Muncy Borough Municipal Authority, Muncy Creek Township, Lycoming County, PA. Groundwater withdrawal of up to 0.276 mgd (30-day average) from Well 8.

24. Project Sponsor: Pennsylvania Department of Environmental Protection, Bureau of Conservation and Restoration. Project Facility: Cresson Mine Drainage Treatment Plant, Cresson Borough, Cambria County, PA. Groundwater withdrawal from the Argyle Stone Bridge Well as part of a four-well system drawing up to 6.300 mgd (30-day average) from the Gallitzin Shaft and Cresson Mine Pools.

25. Project Sponsor: Pennsylvania Department of Environmental Protection, Bureau of Conservation and Restoration. Project Facility: Cresson Mine Drainage Treatment Plant, Cresson Township, Cambria County, PA. Groundwater withdrawal from the Cresson No. 9 Well as part of a four-well system drawing up to 6.300 mgd (30-day average) from the Gallitzin Shaft and Cresson Mine Pools.

26. Project Sponsor: Pennsylvania Department of Environmental Protection, Bureau of Conservation and Restoration. Project Facility: Cresson Mine Drainage Treatment Plant, Gallitzin Township, Cambria County, PA. Groundwater withdrawal from the Gallitzin Shaft Well 2A (Gallitzin Shaft #2) as part of a four-well system drawing up to 6.300 mgd (30-day average) from the Gallitzin Shaft and Cresson Mine Pools.

27. Project Sponsor: Pennsylvania Department of Environmental Protection, Bureau of Conservation and Restoration. Project Facility: Cresson Mine Drainage Treatment Plant, Gallitzin Township, Cambria County, PA. Groundwater withdrawal from the Gallitzin Shaft Well 2B (Gallitzin Shaft #1) as part of a four-well system drawing up to 6.300 mgd (30-day average) from the Gallitzin Shaft and Cresson Mine Pools.

28. Project Sponsor and Facility: SWN Production Company, LLC (Susquehanna River), Mehoopany Township, Wyoming County, PA. Surface water withdrawal of up to 1.500 mgd (peak day).

29. Project Sponsor and Facility: SWN Production Company, LLC (Susquehanna River), Oakland Township, Susquehanna County, PA. Renewal of surface water withdrawal of up to 3.000 mgd (peak day) (Docket No. 20120311).

30. Project Sponsor and Facility: SWN Production Company, LLC (Tunkhannock Creek), Lenox Township, Susquehanna County, PA. Renewal of surface water withdrawal of up to 1.218 mgd (peak day) (Docket No. 20120312).

Project Application Tabled

The Commission tabled action on the following project application:

1. Project Sponsor and Facility: Black Bear Waters, LLC (Lycoming Creek), Lewis Township, Lycoming County, PA. Application for renewal of surface water withdrawal of up to 0.900 mgd (peak day) (Docket No. 20120303).

Project Application Approved Involving a Diversion

The Commission approved the following project application involving a diversion:

1. Project Sponsor: Gas Field Specialists, Inc. Project Facility: Wayne Gravel Products Quarry, Ceres Township, McKean County, PA. Into-basin diversion from the Ohio River Basin of up to 1.170 mgd (peak day).

Authority: Public Law 91-575, 84 Stat. 1509 et seq., 18 CFR parts 806, 807, and 808.

Dated: March 17, 2016.
Stephanie L. Richardson,
Secretary to the Commission.

[FR Doc. 2016-06428 Filed 3-21-16; 8:45 am]

BILLING CODE 7040-01-P